DEPARTMENT OF ENERGY

Federal Energy Regulatory Commission

Combined Notice of Filings # 1

Take notice that the Commission received the following exempt wholesale generator filings:

Docket Numbers: EG24-163-000.

Applicants: Sol Madison Solar, LLC.

Description: Sol Madison Solar, LLC submits Notice of Self-Certification of Exempt Wholesale Generator Status.

Filed Date: 4/11/24.

Accession Number: 20240411-5169.

Comment Date: 5 p.m. ET 5/2/24.

Take notice that the Commission received the following Complaints and Compliance filings in EL Dockets:

Docket Numbers: EL24-101-000.

Applicants: Citizens Pacific Transmission LLC.

Description: Petition for Declaratory Order of Citizens Pacific Transmission LLC.

Filed Date: 4/11/24.

Accession Number: 20240411-5193.

Comment Date: 5 p.m. ET 5/13/24.

Take notice that the Commission received the following electric rate filings:

Docket Numbers: ER23-2510-002.

Applicants: California Independent System Operator Corporation.

Description: Compliance filing: 2024-04-12 Waiver of Wheeling Resale Provisions to be effective N/A.

Filed Date: 4/12/24.

Accession Number: 20240412-5200.

Comment Date: 5 p.m. ET 5/3/24.

Docket Numbers: ER23-2886-000.

Applicants: South Energy Investments, LLC.

Description: Refund Report: Refund Report to be effective N/A.

Filed Date: 4/12/24.

Accession Number: 20240412-5183.

Comment Date: 5 p.m. ET 5/3/24.

Docket Numbers: ER24-966-001.

Applicants: Eleven Mile Solar Center, LLC.

Description: Tariff Amendment: Revised MBR Tariff—Amended Category Status (ER24-966-) to be effective 1/23/2024.

Filed Date: 4/12/24.

Accession Number: 20240412-5156.

Comment Date: 5 p.m. ET 5/3/24.

Docket Numbers: ER24-1732-000.

Applicants: Sol Madison Solar, LLC.

Description: Baseline eTariff Filing: Sol Madison Solar, LLC MBR Tariff to be effective 4/15/2024.

Filed Date: 4/11/24.

Accession Number: 20240411-5160.

Comment Date: 5 p.m. ET 5/2/24.

Docket Numbers: ER24-1733-000.

Applicants: NorthWestern Corporation.

Description: § 205(d) Rate Filing: RS No. 361—Haymaker Energy Project LLC to be effective 4/12/2024.

Filed Date: 4/11/24.

Accession Number: 20240411-5175.

Comment Date: 5 p.m. ET 5/2/24.

Docket Numbers: ER24-1734-000.

Applicants: Southern California Edison Company.

Description: § 205(d) Rate Filing: 2nd Amended LGIA, Silver State South, TOT381/405 to be effective 4/13/2024.

Filed Date: 4/12/24.

Accession Number: 20240412-5030.

Comment Date: 5 p.m. ET 5/3/24.

Docket Numbers: ER24-1735-000.

Applicants: PacifiCorp.

Description: § 205(d) Rate Filing: Surplus Large Gen Interconnect Agrmt (Escalante III—SA No. 1108) to be effective 4/13/2024.

Filed Date: 4/12/24.

Accession Number: 20240412-5035.

Comment Date: 5 p.m. ET 5/3/24.

Docket Numbers: ER24-1736-000.

Applicants: PacifiCorp.

Description: § 205(d) Rate Filing: Surplus Large Gen Interconnect Agrmt (Enterprise Storage—SA No. 1109) to be effective 4/13/2024.

Filed Date: 4/12/24.

Accession Number: 20240412-5046.

Comment Date: 5 p.m. ET 5/3/24.

Docket Numbers: ER24-1737-000.

Applicants: Hickory Solar LLC.

Description: Baseline eTariff Filing: Market-Based Rate Application to be effective 6/12/2024.

Filed Date: 4/12/24.

Accession Number: 20240412-5056.

Comment Date: 5 p.m. ET 5/3/24.

Docket Numbers: ER24-1738-000.

Applicants: Ragsdale Solar, LLC.

Description: Baseline eTariff Filing: Market-Based Rate Application to be effective 6/12/2024.

Filed Date: 4/12/24.

Accession Number: 20240412-5060.

Comment Date: 5 p.m. ET 5/3/24.

Docket Numbers: ER24-1739-000.

Applicants: Wolf Run Solar LLC.

Description: Baseline eTariff Filing: Market-Based Rate Application to be effective 6/12/2024.

Filed Date: 4/12/24.

Accession Number: 20240412-5063.

Comment Date: 5 p.m. ET 5/3/24.

Docket Numbers: ER24-1740-000.

Applicants: Southern California Edison Company.

Description: § 205(d) Rate Filing: South Georgia Formula Rate Revision, TOT Attachment 2 to Appendix IX to be effective 6/12/2024.

Filed Date: 4/12/24.

Accession Number: 20240412-5081.

Comment Date: 5 p.m. ET 5/3/24.

Docket Numbers: ER24-1741-000.

Applicants: Virginia Electric and Power Company, PJM Interconnection, L.L.C.

Description: § 205(d) Rate Filing: Virginia Electric and Power Company submits tariff filing per 35.13(a)(2)(iii: VEPCO submits revisions to OATT Att. H-16C to be effective 6/14/2024.

Filed Date: 4/12/24.

Accession Number: 20240412-5082.

Comment Date: 5 p.m. ET 5/3/24.

Docket Numbers: ER24-1742-000.

Applicants: PJM Interconnection, L.L.C.

Description: § 205(d) Rate Filing: Original NSA, SA No. 7230; Queue No. AE2-125 to be effective 6/12/2024.

Filed Date: 4/12/24.

Accession Number: 20240412-5091.

Comment Date: 5 p.m. ET 5/3/24.

Docket Numbers: ER24-1743-000.

Applicants: PJM Interconnection, L.L.C.

Description: § 205(d) Rate Filing: Ministerial Clean-Up Filing to the PJM Tariff and Operating Agreement to be effective 6/1/2023.

Filed Date: 4/12/24.

Accession Number: 20240412-5141.

Comment Date: 5 p.m. ET 5/3/24.

Docket Numbers: ER24-1744-000.

Applicants: Portland General Electric Company.

Description: § 205(d) Rate Filing: PGE OATT Att P Filing to Implement AET Product to be effective 7/1/2024.

Filed Date: 4/12/24.

Accession Number: 20240412-5144.

Comment Date:5 p.m. ET 5/3/24.

Docket Numbers: ER24-1745-000.

Applicants: Midcontinent Independent System Operator, Inc.

Description: § 205(d) Rate Filing: 2024-04-12_SA 3392 Entergy Arkansas-New Madrid Solar 2nd Rev GIA (J944) to be effective 4/8/2024.

Filed Date: 4/12/24.

Accession Number: 20240412-5166.

Comment Date: 5 p.m. ET 5/3/24.

Docket Numbers: ER24-1746-000.

Applicants: California Independent System Operator Corporation.

Description: § 205(d) Rate Filing: 2024-04-12 EDAM Access Charge to be effective 6/12/2024.

Filed Date: 4/12/24.

Accession Number: 20240412-5177.

Comment Date: 5 p.m. ET 5/3/24.

Docket Numbers: ER24-1747-000.

Applicants: Midcontinent Independent System Operator, Inc.

Description: § 205(d) Rate Filing: 2024-04-12_SA 3257 ITC Midwest-Louise Solar 2nd Rev GIA (J523) to be effective 4/4/2024.

Filed Date: 4/12/24.

Accession Number: 20240412-5180.

Comment Date: 5 p.m. ET 5/3/24.

Docket Numbers: ER24-1748-000.

Applicants: Public Service Company of New Mexico.

Description: § 205(d) Rate Filing: Letter Agreement—Rate Schedule No. 193 to be effective 5/1/2024.

Filed Date: 4/12/24.

Accession Number: 20240412-5216.

Comment Date: 5 p.m. ET 5/3/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: April 12, 2024.
Debbie-Anne A. Reese,
Acting Secretary.

[FR Doc. 2024-08321 Filed 4-17-24; 8:45 am]

BILLING CODE 6717-01-P